DEPARTMENT OF THE INTERIOR

Fish and Wildlife Service

DEPARTMENT OF COMMERCE

National Oceanic and Atmospheric Administration

[I.D. 091305C]

Notice of Intent to Conduct Public Scoping Meetings and to Prepare an Environmental Impact Statement Related to the Bi-State Water Diversion Habitat Conservation Plan for the Walla Walla River Basin

AGENCIES: Fish and Wildlife Service (FWS), Interior; National Marine Fisheries Service (NMFS), National Oceanic and Atmospheric Administration (NOAA), Commerce.

ACTION: Notice of Intent to conduct scoping meetings.

SUMMARY: The U.S. Fish and Wildlife Service and National Marine Fisheries Service (Services) advise interested parties of their intent to conduct public scoping under the National Environmental Policy Act (NEPA), to gather information to prepare an Environmental Impact Statement (EIS). The Services anticipate receiving permit applications from Gardena Farms Irrigation District (GFID), Hudson Bay District Improvement Company (HBDIC), and the Walla Walla River Irrigation District (WWRID). Other surface water diverters in the Walla Walla Basin, such as independent irrigators, ditch companies, and other local governments, may also apply. The permit applications would be submitted under the Endangered Species Act (ESA) for the incidental take of listed species through actions associated with the Bi-State Habitat Conservation Plan (HCP) for the Walla Walla River Basin. Given the present list of likely permit applicants, the geographic scope of the permit would be that portion of the mainstem Walla Walla River downstream from the Walla Walla River Irrigation District's diversion. If other surface water diverters apply for permits, the geographic scope would be expanded accordingly to include those stream reaches within the Walla Walla Basin that are potentially affected by those diversions. The proposed actions to be covered by the permit would be those activities undertaken by the applicants that are associated with the diversion and delivery of surface water.

DATES: Four scoping meetings will be held in November 2005. They will include one meeting for the Confederated Tribes of the Umatilla Indian Reservation (CTUIR), one for all interested and affected agencies, and two for the public. Meeting locations and times will be published in the local newspapers of record:

1. Public scoping meeting, November 16, 2005, 7 p.m.-9 p.m.

2. Public scoping meeting, November 17, 2005, 7 p.m.-9 p.m.

3. Agency scoping meeting, November 17, 2005, 1:30 p.m.-3:30 p.m.

4. CTUIR scoping meeting, November 18, 2005, 9 a.m.-10 a.m.Written comments should be received on or before December 30, 2005.

ADDRESSES: The meeting locations are:

1. Public scoping meeting,Washington State Department of Transportation (Conference Room) 1210 G Street, Walla Walla, WA 99362.

2. Public scoping meeting, Milton Freewater Library (Albee Room), 8 SW 8th Avenue, Milton-Freewater, OR 97862.

3. Agency scoping meeting, Washington State Department of Transportation (Conference Room) 1210 G Street, Walla Walla, WA 99362.

4. CTUIR scoping meeting, 73239 Confederated Way, Mission, OR 97801.

All comments concerning the preparation of the EIS and the NEPA process should be addressed to: Ms. Michelle Eames, FWS, 1103 East Montgomery Drive, Spokane, Washington 99206, facsimile 509-891-6748; or Mr. Dale Bambrick, NMFS, 304 S. Water Street, Suite 200, Ellensburg, WA 98926, facsimile 509-962-8544. E-mail comments may be submitted to the following address: WallaWallaHCP@fws.gov. In the subject line of the e-mail, include the document identifier: Walla Walla HCP-EIS.

FOR FURTHER INFORMATION CONTACT: Michelle Eames, FWS, (509)-891-6839, or Dale Bambrick, NMFS, (509) 962-8911.

SUPPLEMENTARY INFORMATION:

Statutory Authority

Section 9 of the ESA (16 U.S.C. 1538) and its implementing regulations (50 CFR 17.21(c), 17.31(a)) prohibit the “taking” of animal species listed as endangered or threatened. The term “take” is defined under the ESA to mean harass, harm, pursue, hunt, shoot, wound, kill, trap, capture, or collect, or to attempt to engage in any such conduct (16 U.S.C. 1532(19)). “Harm” is defined by FWS regulation to include significant habitat modification or degradation where it actually kills or injures wildlife by significantly impairing essential behavioral patterns, including breeding, feeding, and sheltering (50 CFR 17.3). NMFS' definition of harm includes significant habitat modification or degradation where it actually kills or injures fish or wildlife by significantly impairing essential behavioral patterns, including breeding, feeding, spawning, migrating, rearing, and sheltering (64 FR 60727, November 8, 1999).

Section 10 of the ESA and implementing regulations provide for the issuance of incidental take permits (ITPs) to non-Federal applicants to authorize incidental take of endangered and threatened species (16 U.S.C. 1539(a); 50 CFR 17.22(b), 17.32(b)). Any proposed take must be incidental to an otherwise lawful activity, must not appreciably reduce the likelihood of the survival and recovery of the species in the wild, and must be minimized and mitigated to the maximum extent practicable. In addition, an applicant must prepare an HCP describing the impact that will likely result from such taking, a plan for minimizing and mitigating the impacts of such incidental take, the funding available to implement the plan, alternatives to such taking, and the reason such alternatives are not being implemented.

NEPA (42 U.S.C. 4321 et seq.) requires that Federal agencies conduct an environmental analysis of their proposed actions to determine if the actions may significantly affect the human environment. Under NEPA, a reasonable range of alternatives to the proposed project is developed and considered in the Services' EIS. Alternatives considered for analysis in an EIS may include: variations in the scope or types of covered activities; variations in the location, amount, and types of conservation measures; timing of project activities; variations in permit duration; or a combination of these elements. In addition, an EIS will identify potentially significant direct, indirect, and cumulative effects on biological resources, land use, air quality, water quality, water resources, socioeconomics, minority communities, cultural resources, and other environmental issues that could occur with the implementation of the applicant's proposed actions and alternatives. An EIS will identify all potentially significant environmental effects and what steps will be taken to reduce these effects, where feasible, to a level below significance.

Background

The proposed EIS would analyze the potential issuance of two ITPs, one by NMFS and one by the FWS. To obtain an ITP, the applicants must prepare a Habitat Conservation Plan (HCP) that meets the issuance criteria established by the ESA and Service regulations (50 CFR 17.22(b)(2) 17.32(b), 222.307). Should a permit or permits be issued, the permit(s) may include assurances under the Service's “No Surprises” regulations. The NEPA scoping process will identify and evaluate the range of alternatives and issues to be addressed in the EIS. If additional potential applicants or conservation measures are identified that are distinctly different from those above, the scoping process may be revisited.

The Walla Walla Basin is located in southeast Washington and northeast Oregon. The basin encompasses approximately 1,800 square miles (4,698 Km) in Columbia and Walla Walla, Counties in Washington, and Umatilla, Union, and Wallowa Counties in Oregon. The activities anticipated to be covered include all activities associated with the diversion and delivery of surface water that have the potential to affect species subject to protection under the ESA, as well as other, unlisted, species of concern to the Services.

The species currently listed under the ESA that are being proposed for coverage under an ITP include the bull trout (Salvelinus confluentus), under the jurisdiction of the FWS, and the Mid-Columbia River evolutionarily significant unit of steelhead (Oncorhynchus mykiss), under the jurisdiction of NMFS, both currently listed as threatened. Other listed or unlisted species may also be considered and addressed.

Proposed conservation measures that the applicants may incorporate include, but are not limited to: curtailment of surface diversions, seasonal diversion reductions, water quality improvements, and physical habitat enhancements.

A draft HCP, to be prepared by the applicants in support of their ITP applications, will describe the impacts of take on the proposed covered species, and will propose a conservation strategy to minimize and mitigate impacts on each covered species to the maximum extent practicable. The draft will also identify funding for the conservation plan, as well as the HCP alternatives and will explain why those alternatives are not being utilized. The Services are responsible for determining whether the draft HCP satisfies ESA section 10 issuance criteria.

Under NEPA, a reasonable range of alternatives to a proposed project must be developed and considered in the Services' EIS. The Services have identified the following preliminary alternatives for public comment during the public scoping period:

Alternative 1: No Action Alternative - Under the No Action Alternative, an ITP would not be issued and an HCP would not be approved. The current FWS Settlement Agreement (Agreement) would continue through January 2007 and would need to either be extended or renewed for an additional time period, or end. If the Agreement is renewed, it could include additional instream flow requirements and/or other requirements. If the Agreement is not renewed or extended, then the districts could be open to enforcement actions due to ESA violations, and the stream could be dewatered again, as it was prior to 2001. Continued operational and capital improvements could be made by the districts.

Alternative 2: Proposed Action Alternative - NMFS and the FWS would each issue ESA incidental take permits, and full implementation of the HCP would occur. The HCP would include a set of conservation measures specific to each applicant that would minimize and mitigate the impacts of the project to the maximum extent practicable.

Alternative 3: Programmatic HCP Alternative - Under this alternative, independent irrigators, irrigation districts, ditch companies, and/or municipalities may participate in the HCP described under the Proposed Action Alternative. They would participate by either signing a Certificate of Inclusion that would cover their activities under another applicant's permit, rather than developing a separate HCP; or through separate FWS and NMFS authoization under ESA Section 7 or 10 to cover their activities. If these future participants do not adopt the HCP described under the Proposed Action, it is possible that additional NEPA review would be required at the time their request for ESA coverage is received by the Services. If participants choose to adopt the HCP, a site-specific plan would be developed and approved by both agencies. If the adoption includes modifications to the HCP, the Services would ensure that the NEPA review for the HCP included these conditions, and if not, would comply with NEPA to provide a review on such modifications.

Alternative 4: Reduced Take Alternative - Under this alternative the proposed HCP would be modified by changing or adding measures to further reduce the amount and risk of incidental take. These measures could include different conservation measures, covered species, covered lands, covered activities, and/or permit duration. Additional project alternatives may be developed based on input received from the public scoping process.

Request for Comments

The primary purpose of the scoping process is for the public to assist the Services in developing the EIS by identifying important issues and alternatives related to the proposed action. Each scoping meeting will allocate time for informal discussion and questions with presentations by the Services and potential applicants. All comments and materials received, including names and addresses, will become part of the administrative record and may be released to the public.

Comments and materials received will be available for public inspection, by appointment, during normal business hours at the offices listed in the ADDRESSES section of this notice.

The Services request that comments be specific. In particular, we request information regarding: direct, indirect, and cumulative impacts that implementation of the proposed HCP could have on covered species and their habitats and on the built, social, economic, natural and cultural environments; strategies for meeting the purpose and need, in particular strategies for improving instream flows; potential adaptive management and/or monitoring provisions; funding issues; existing environmental conditions in the project area; other plans or projects that might be relevant to this proposed project; and minimization and mitigation efforts. The Services estimate that a draft EIS will be available for public review late in 2006.

Reasonable Accommodation

Persons needing reasonable accommodations to attend and participate in public meetings should contact Michelle Eames (see FOR FURTHER INFORMATION CONTACT). To allow sufficient time to process requests, please call no later than 1 week before the scheduled public meeting. Information regarding this proposed action is available in alternative formats upon request. A Spanish interpreter will be available at all public meetings.

Dated: November 7, 2005.
Daniel H. Diggs,
Acting Deputy Regional Director, Fish and Wildlife Service, Region 1, Portland, Oregon.

Dated: November 7, 2005.
Angela Somma,
Division Chief, Endangered Species Division, Office of Protected Resources, National Marine Fisheries Service.

[FR Doc. 05-22632 Filed 11-14-05; 8:45 am]

BILLING CODES 3510-22-S, 4310-55-S